DEPARTMENT OF DEFENSE

Defense Acquisition Regulations System

48 CFR Parts 222, 237, and 252

[Docket DARS-2018-0032]

RIN 0750-AJ66

Defense Federal Acquisition Regulation Supplement: Repeal of DFARS Clause “Right of First Refusal of Employment-Closure of Military Installations” (DFARS Case 2018-D002)

AGENCY: Defense Acquisition Regulations System, Department of Defense (DoD).

ACTION: Final rule; correction.

SUMMARY: DoD is making a correction to the final rule published on May 30, 2018, which amended the Defense Federal Acquisition Regulation Supplement (DFARS) to remove a clause that is duplicative of an existing Federal Acquisition Regulation (FAR) clause. The document contained an incorrect RIN number.

DATES: Effective June 8, 2018.

Applicable beginning May 30, 2018.

FOR FURTHER INFORMATION CONTACT: Ms. Amy Williams, telephone 571-372-6106.

SUPPLEMENTARY INFORMATION: In the final rule published at 83 FR 24892 on May 30, 2018, in the third column, the following correction is made to this rule:

The RIN number cited, RIN 0750-AJ54, is corrected to read RIN 0750-AJ66.

Amy G. Williams,
Deputy, Defense Acquisition Regulations System.

[FR Doc. 2018-12492 Filed 6-8-18; 8:45 am]

BILLING CODE 5001-06-P